DEPARTMENT OF COMMERCE

National Oceanic and Atmospheric Administration

[I.D. 081301B]

Proposed Information Collection; Comment Request; Southeast Region Bycatch Reduction Device Certification Family of Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before October 15, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to James R. Nance, Ph.D., F/SEC5, National Marine Fisheries Service, 4700 Avenue U, Galveston, TX 77551 (phone 409-766-3507).

SUPPLEMENTARY INFORMATION:

I. Abstract

Bycatch Reduction Devices (BRDs) are used in shrimp trawls in the Exclusive Economic Zone to reduce the bycatch of other species. Only BRDs certified by the National Oceanic and Atmospheric Administration (NOAA) can be used. Persons seeking to get certification from NOAA for BRDs must submit information showing that testing proves the effectiveness of the equipment.

II. Method of Collection

The information is submitted by paper form.

III. Data

OMB Number: 0648-0345.

Form Number: None.

Type of Review: Regular submission.

Affected Public: Business or other for-profit organizations, individuals or households.

Estimated Number of Respondents: 45.

Estimated Time Per Response: 140 minutes for an application for pre-certification testing or for certification testing, 20 minutes for a Station Sheet (Gulf of Mexico), 50 minutes for a station sheet bycatch reduction device evaluation form (South Atlantic), 20 minutes for a Condition and Fate form, 30 minutes for a gear form (South Atlantic), 20 minutes for a gear specification form (Gulf of Mexico), 20 minutes for a length frequency form (Gulf of Mexico), 50 minutes for a length frequency form (South Atlantic), 5 hours for a species characterization form, 20 minutes for a BRD specification form (Gulf of Mexico), 20 minutes for a vessel information form (Gulf of Mexico), and 30 minutes for a vessel information form (South Atlantic).

Estimated Total Annual Burden Hours: 5,679.

Estimated Total Annual Cost to Public: $338,000.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 9, 2001.
Madeleine Clayton,
Departmental Paperwork Clearance Officer, Office of the Chief Information Officer.

[FR Doc. 01-20654 Filed 8-15-01; 8:45 am]

BILLING CODE 3510-22-S